DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of May 4, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: February 11, 2015.
Roy E. Wright,
Deputy Associate Administrator for Mitigation, Department of Homeland Security, Federal Emergency Management Agency.

Community | Community map repository address
Whitley County, Indiana, and Incorporated Areas
Docket No.: FEMA-B-1356
City of Columbia City | Columbia City/Whitley County Joint Planning and Building Department, Whitley County Government Center, Suite 204, 220 West Van Buren Street, Columbia City, IN 46725.
| Town of South Whitley | Columbia City/Whitley County Joint Planning and Building Department, Whitley County Government Center, Suite 204, 220 West Van Buren Street, Columbia City, IN 46725.
Unincorporated Areas of Whitley County | Columbia City/Whitley County Joint Planning and Building Department, Whitley County Government Center, Suite 204, 220 West Van Buren Street, Columbia City, IN 46725.
Cecil County, Maryland and Incorporated Areas
Docket No.: FEMA-B-1359
Town of Charlestown | Town Hall, 241 Market Street, Charlestown, MD 21914.
Town of Chesapeake City | Town Hall, 108 Bohemia Avenue, Chesapeake City, MD 21915.
Town of Elkton | Town Hall, 100 Railroad Avenue, Elkton, MD 21921.
Town of North East | Town Hall, 106 South Main Street, North East, MD 21901.
Town of Perryville | Town Hall, 515 Broad Street, Perryville, MD 21903.
Town of Port Deposit | Town Hall, 64 South Main Street, Port Deposit, MD 21904.
Unincorporated Areas of Cecil County | Cecil County Office Administrative Building, 200 Chesapeake Boulevard, Elkton, MD 21921.
Charles County, Maryland, and Incorporated Areas
Docket No.: FEMA-B-1352
Town of Indian Head | Town Hall, 4195 Indian Head Highway, Indian Head, MD 20640.
Unincorporated Areas of Charles County | Charles County Department of Planning and Growth Management, 200 Baltimore Street, La Plata, MD 20646.
Allen County, Ohio, and Incorporated Areas
Docket No.: FEMA-B-1356
Unincorporated Areas of Allen County | Allen County Courthouse, 301 North Main Street, Lima, OH 45801.
Village of Bluffton | Village Hall, 154 North Main Street, Bluffton, OH 45817.
Village of Lafayette | Village Hall, 225 East Sugar Street, Lima, OH 45801.
Marion County, Ohio, and Incorporated Areas
Docket No.: FEMA-B-1356
Unincorporated Areas of Marion County | Marion County Building, 222 West Center Street, Marion, OH 43302.
Village of Waldo | Village Hall, 102 North Marion Street, Waldo, OH 43356.
Chambers County, Texas, and Incorporated Areas
Docket No.: FEMA-B-1344
City of Anahuac | City Hall, 501 Miller Street, Anahuac, TX 77514.
City of Baytown | City Hall, 2401 Market Street, Baytown, TX 77522.
City of Beach City | Community Building, 12723 Farm to Market 2354, Beach City, TX 77523.
City of Cove | City Hall, 7911 Cove Road, Cove, TX 77523.
City of Mont Belvieu | City Hall, 11607 Eagle Drive, Mont Belvieu, TX 77580.
City of Old River-Winfree | City Hall, 4818 North Farm to Market 565 Road, Old River-Winfree, TX 77523.
Unincorporated Areas of Chambers County | Chambers County Road and Bridge, 201 Airport Road, Anahuac, TX 77514.
Essex County, Virginia, and Incorporated Areas
Docket No.: FEMA-B-1352
Town of Tappahannock | Town Office, 915 Church Lane, Tappahannock, VA 22560.
Unincorporated Areas of Essex County | Essex County Building and Zoning Department, 202 South Church Lane, Tappahannock, VA 22560.
Surry County, Virginia, and Incorporated Areas
Docket No.: FEMA-B-1352
Town of Claremont | Municipal Building, 4115 Spring Grove Road, Claremont, VA 23899.
Unincorporated Areas of Surry County | Surry County Government Center, 45 School Street, Surry, VA 23883.

[FR Doc. 2015-05059 Filed 3-4-15; 8:45 am]

BILLING CODE 9110-12-P